DEPARTMENT OF STATE

[Public Notice No. 10837]

Foreign Affairs Policy Board; Notice of Charter Renewal

Pursuant to the Federal Advisory Committee Act, 5 U.S.C. Appendix, and 41 CFR 102-3.65, the Department of State hereby provides notice of the renewal of the charter of the Foreign Affairs Policy Board (“the Board”).

The Foreign Affairs Policy Board provides the Secretary of State with advice, real-time feedback, and perspectives from outside leaders and innovators, in support of the Department formulation and execution of policy. It taps external expertise to provide advice and recommendations regarding critical challenges in the dynamic and competitive global environment in order to enhance the power and influence of American diplomacy.

The Board's activities are advisory only. The Board is established under the general authority of the Secretary of State and the Department of State as set forth in Title 22 of the United States Code, in particular Section 2656 of that Title and consistent with Federal Advisory Committee Act.

For additional information, contact Shawanesh Underwood in the Office of Policy Planning, U.S. Department of State, at email UnderwoodSN@state.gov.

Dated: July 24, 2019.
Kiron K. Skinner,
Director, Office of Policy Planning, Department of State.

[FR Doc. 2019-16348 Filed 7-30-19; 8:45 am]

BILLING CODE 4710-10-P